DEPARTMENT OF ENERGY

Federal Energy Regulatory Commission

[Docket No. CP00-34-000]

Algonquin Gas Transmission Company; Notice of Availability of the Environmental Assessment for the Proposed Fore River Project

April 21, 2000.

The staff of the Federal Energy Regulatory Commission (FERC or Commission) has prepared an environmental assessment (EA) on the natural gas pipeline facilities proposed by Algonquin Gas Transmission Company (Algonquin) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed facilities including:

• Replacement of approximately 6.9 miles of existing 10-inch-diameter pipeline (I-3 Lateral) with 24-inch-diameter pipeline from milepost (MP) 0.0 in Canton, Massachusetts to MP 6.9 in Braintree, Massachusetts; and

• Construction of a new 0.5-mile-long, 24-inch-diameter pipeline I-9 Lateral) and measurement facilities in Braintree and Weymouth, Massachusetts

The purpose of the proposed facilities would be to provide transportation service of up to 140,000 Dth/d of natural gas for Sithe Energy Fore River Station (Fore River Station). Sithe Power Marketing, L.P. (Sithe) has requested firm natural gas transportation service to fuel the planned Fore River Station, a 750 megawatt gas-fired electric power plant.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and property recorded:

• Send two copies of your comments to: Secretary, Federal Energy Regulatory Commission, 888 First St., N.E., Room 1A, Washington, DC 20426;

• Label one copy of the comments for the attention of the Gas Group 2, PJ11.2;

• Reference Docket No. CP00-34-000; and

• Mail your comments so that they will be received in Washington, DC on or before May 22, 2000.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from Paul McKee in the Commission's Office of External Affairs, at (202) 208-1088 or on the FERC Internet website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-10466 Filed 4-26-00; 8:45 am]

BILLING CODE 6717-01-M